DEPARTMENT OF THE TREASURY

Internal Revenue Service

Open Meeting of the Area 6 Taxpayer Advocacy Panel (Including the States of Arizona, Colorado, Idaho, Montana, New Mexico, North Dakota, Oregon, South Dakota, Utah, Washington and Wyoming)

AGENCY: Internal Revenue Service (IRS), Treasury.

ACTION: Cancellation notice.

SUMMARY: An open meeting of the Area 6 committee of the Taxpayer Advocacy Panel (via teleconference) that was published in the Federal Register on August 1, 2006 has been cancelled. The Taxpayer Advocacy Panel (TAP) is soliciting public comments, ideas, and suggestions on improving customer service at the Internal Revenue Service.

DATES: The meeting that was scheduled Thursday, August 24, 2006 from 10 a.m. Pacific Time to 11:30 a.m. Pacific Time has been cancelled.

FOR FURTHER INFORMATION CONTACT: Dave Coffman at 1-888-912-1227, or 206-220-6096.

SUPPLEMENTARY INFORMATION: Notice is hereby given pursuant to Section 10(a)(2) of the Federal Advisory Committee Act, 5 U.S.C. App. (1988) that an open meeting of the Area 6 Taxpayer Advocacy Panel was cancelled for Thursday, August 24, 2006 from 10 a.m. Pacific Time to 11:30 a.m. Pacific Time via a telephone conference call. If you would like to have the TAP consider a written statement, please call 1-888-912-1227 or 206-220-6096, or write to Dave Coffman, TAP Office, 915 2nd Avenue, MS W-406, Seattle, WA 98174 or you can contact us at http://www.improveirs.org.

Dated: August 9, 2006.
John Fay,
Acting Director, Taxpayer Advocacy Panel.

[FR Doc. E6-13406 Filed 8-15-06; 8:45 am]

BILLING CODE 4830-01-P